DEPARTMENT OF COMMERCE

Patent and Trademark Office

Submission for OMB Review; Comment Request; “International Work Sharing”

The United States Patent and Trademark Office (USPTO) will submit to the Office of Management and Budget (OMB) for clearance the following proposal for collection of information under the provisions of the Paperwork Reduction Act (44 U.S.C. chapter 35).

Agency: United States Patent and Trademark Office, Commerce.

Title: International Work Sharing.

OMB Control Number: 0651-0079.

Form Number(s):

• PTO/SB/437

• PTO/SB/CSP Survey 1

Type of Request: Regular.

Number of Respondents: 300 responses per year.

Average Hours per Response: The USPTO estimates that it will take the public approximately between 5 minutes (0.08 hours) and 3 hours to complete the information in this collection, including the time to gather the necessary information, prepare the forms or documents, and submit the completed request to the USPTO.

Burden Hours: 462 hours per year.

Cost Burden: $0 per year.

Needs and Uses: The public who uses this information collection are applicants who file applications in the USPTO, JPO, and KIPO. They do so in order to participate in the International Work Sharing Program. The Program enables its participants to engage in the exchange of IP documents between the United States, Japan, and Korea to facilitate efficient worldwide patent examinations.

Affected Public: Businesses or other for-profits; not-for-profit institutions.

Frequency: On occasion.

Respondent's Obligation: Required to Obtain or Retain Benefits.

OMB Desk Officer: Nicholas A. Fraser, email: Nicholas_A._Fraser@omb.eop.gov.

Once submitted, the request will be publically available in electronic format through www.reginfo.gov. Follow the instructions to view Department of Commerce collections currently under review by OMB.

Further information can be obtained by:

• Email: InformationCollection@uspto.gov. Include “0651-0079 copy request” in the subject line of the message.

• Mail: Marcie Lovett, Records and Information Governance Division Director, Office of the Chief Administrative Officer, United States Patent and Trademark Office, P.O. Box 1450, Alexandria, VA 22313-1450.

Written comments and recommendations for the proposed information collection should be sent on or before March 4, 2019 to Nicholas A. Fraser, OMB Desk Officer, via email to Nicholas_A._Fraser@omb.eop.gov, or by fax to 202-395-5167, marked to the attention of Nicholas A. Fraser.

Marcie Lovett,
Records Management Division Director, USPTO, Office of the Chief Administrative Officer.

[FR Doc. 2019-00610 Filed 1-31-19; 8:45 am]

BILLING CODE 3510-16-P